DEPARTMENT OF LABOR

Employment and Training Administration

[TA-W-71,447]

Applied Materials, Inc., Including On-Site Leased Workers From Adecco Employment Services, Aerotek, Inc., CDI IT Solutions (CDI Corporation), D&Z Microelectronics, Pentagon Technology, Proactive Business Solution, Inc., Technical Resources, SQA Services and NSTAR, Austin, TX; Amended Certification Regarding Eligibility To Apply for Worker Adjustment Assistance

In accordance with Section 223 of the Trade Act of 1974, as amended (“Act”), 19 U.S.C. 2273, the Department of Labor issued a Certification of Eligibility to Apply for Worker Adjustment Assistance on September 30, 2009, applicable to workers of Applied Materials, Inc., including on-site leased workers from Adecco Employment Services, Aerotek, Inc., CDI IT Solutions, D&Z Microelectronics, Pentagon Technology, Proactive Business Solution, Inc., Technical Resources, SQA Services and NSTAR, Austin, Texas. The notice was published in the Federal Register on November 17, 2009 (74 FR 59253).

At the request of the State agency, the Department reviewed the certification for workers of the subject firm. The workers are engaged in the production of semiconductor equipment.

Information shows that on-site leased workers from CDI IT Solutions had their wages reported under a separated unemployment insurance (UI) tax account for its parent firm, CDI Corporation.

Accordingly, the Department is amending this certification to properly reflect this matter.

The intent of the Department's certification is to include all workers of the subject firm who were adversely affected by the shift in production of semiconductor equipment to Singapore.

The amended notice applicable to TA-W-71,447 is hereby issued as follows:

All workers of Applied Materials, Inc., including on-site leased workers from Adecco Employment Services, Aerotek, Inc., CDI IT Solutions (CDI Corporation), D&Z Microelectronics, Pentagon Technology, Proactive Business Solution, Inc., Technical Resources, SQA Services, and NSTAR, Austin, Texas, who became totally or partially separated from employment on or after June 25, 2008 through September 30, 2011, and all workers in the group threatened with total or partial separation from employment on date of certification through two years from the date of certification, are eligible to apply for adjustment assistance under Chapter 2 of Title II of the Trade Act of 1974, as amended.

Signed at Washington, DC this 15th day of December 2009.
Michael W. Jaffe,
Certifying Officer, Division of Trade Adjustment Assistance.

[FR Doc. 2010-900 Filed 1-19-10; 8:45 am]

BILLING CODE 4510-FN-P